DEPARTMENT OF THE INTERIOR

Fish and Wildlife Service

Endangered and Threatened Species Permit Application

AGENCY: Fish and Wildlife Service, Interior.

ACTION: Notice of receipt of permit application.

SUMMARY: The following applicants have applied for a scientific research permit to conduct certain activities with endangered species pursuant to sections 10(a)(1)(A) and 10(c) of the Endangered Species Act of 1973, as amended (16 U.S.C. 1531, et seq.).

DATES: Written comments on this permit application must be received on or before July 7, 2003.

ADDRESSES: Written data or comments should be submitted to the Regional Director, U.S. Fish and Wildlife Service, Ecological Services, 1 Federal Drive, Fort Snelling, Minnesota 55111-4056.

FOR FURTHER INFORMATION CONTACT: Mr. Peter Fasbender, Regional Permits Coordinator, (612) 713-5343.

SUPPLEMENTARY INFORMATION:

Permit Number TE056081-1

Applicant: EnviroScience, Inc., Stow, Ohio.

The applicant requests a permit to take (capture and release) listed unionid mussel species throughout Kentucky. The scientific research is aimed at enhancement of survival of the species in the wild.

Permit Number TE070773

Applicant: Genevieve Spanjer, Toronto, Ontario, Canada.

The applicant requests a permit to take (capture, handle, and harass) the Indiana bat (Myotis sodalis), gray bat (M. grisescens), Ozark big-eared bat (Corynorhinus townsendii ingens) and Virginia big-eared bat (C. t. viginianus) in the States of Alabama, Georgia, Indiana, Kentucky, New York, Ohio, Tennessee, Vermont, Virginia, and West Virginia. The scientific research is aimed at enhancement of survival of the species in the wild.

Permit Number TE070779

Applicant: Daniel A. Maltese, Pittsburgh, Pennsylvania.

The applicant requests a permit to take (capture, handle, and harass) the Indiana bat (Myotis sodalis) in Ohio. The scientific research is aimed at enhancement of survival of the species in the wild.

Permit Number TE070782

Applicant: Barbara J. Barton, Ypsilanti, Michigan.

The applicant requests a permit to take Mitchell's satyr (Neonympha mitchellii mitchellii) in Michigan. The scientific research is aimed at enhancement of survival of the species in the wild.

Permit Number TE071066

Applicant: Bat Conservation and Management, Inc., Carlisle, Pennsylvania.

The applicant requests a permit to take (capture, handle, and harass) the Indiana bat (Myotis sodalis) in Iowa. The scientific research is aimed at enhancement of survival of the species in the wild.

Documents and other information submitted with this application are available for review by any party who requests a copy from the following office within 30 days of the date of publication of this notice: U.S. Fish and Wildlife Service, Ecological Services, 1 Federal Drive, Fort Snelling, Minnesota 55111-4056, peter_fasbender@fws.gov, telephone (612) 713-5343, or FAX (612) 713-5292. Documents and other information submitted with these applications are available for review, subject to the requirements of the Privacy Act and Freedom of Information Act, by any party who submits a written request for a copy of such documents. Please refer to the respective permit numbers when submitting comments.

Dated: May 7, 2003.
Charles M. Wooley,
Assistant Regional Director, Ecological Services, Region 3, Fort Snelling, Minnesota.

[FR Doc. 03-14131 Filed 6-4-03; 8:45 am]

BILLING CODE 4310-55-P